DEPARTMENT OF THE INTERIOR

BUREAU OF LAND MANAGEMENT

43 CFR Part 3500

[WO-320-1330-PB-24 A]

RIN 1004-AC49

Leasing of Solid Minerals Other Than Coal and Oil Shale; Correction

AGENCY: Bureau of Land Management, Interior.

ACTION: Correcting amendments.

SUMMARY: This document contains corrections to the final regulations for leasing of solid minerals other than coal and oil shale published in the Federal Register on October 1, 1999 (64 FR 53512).

DATES: Effective on November 1, 1999.

FOR FURTHER INFORMATION CONTACT: Philip Allard, (202) 452-5195, or Chris Fontecchio, (202) 452-5012.

SUPPLEMENTARY INFORMATION:

Need for Correction

The final regulations as published contained several errors which may confuse or mislead the public. We need to correct these errors to clarify the regulations.

In paragraph (b) of § 3504.15, we have a table that has alphabetic identifiers. This results in citations such as § 3504.15(b)(b) which could be confusing. Therefore, we are changing the alphabetic identifiers in the table from (a), (b), (c), (d), (e), (f), and (g) to the identifiers (1), (2), (3), (4), (5), (6), and (7) respectively.

In the newly redesignated paragraph (b)(3) of § 3504.15 we are changing the word “Potash” to the word “Potassium” to be consistent with the use of the word “potassium” in other parts of the rule.

In § 3506.14(a) we used the word “form” instead of the word “from”. Therefore we are changing the word “form” to the word “from'.

In one case we have two sections of the rule that address the same issue but contradict each other. The second sentence of § 3504.12(a)(1) states that no filing fee is required with preference right lease applications; however, § 3507.16 states that one must include a $25 nonrefundable filing fee with a preference right lease application. This is clearly contradictory. We did not intend to create any new filing fees when we issued this rule. In our previous rule we did not require a filing fee with preference right lease applications. See for example §§ 3513.1-1, 3523.1-1, 3533.1-1, 3543.1-1, 3553.1-1, and 3563.1-1 of the previous rule. Therefore, we are correcting § 3507.16 to state that no filing fee is required when one applies for a preference right lease.

In § 3508.21 we have a subsection (b) but we have no subsection (a). We intended subsection (a) to begin at the first sentence. Therefore we are inserting the identifier “(a)” at the beginning of the first sentence of the section.

List of Subjects in 43 CFR Part 3500

Government contracts, Mineral royalties, Public lands-mineral resources, Reporting and recordkeeping requirements, Surety bonds.

Dated: February 25, 2000.
Carson W. Culp,
Assistant Director, Energy and Mineral Resources.

Accordingly, BLM makes the following correcting amendments to 43 CFR Part 3500:

PART 3500—LEASING OF SOLID MINERALS OTHER THAN COAL AND OIL SHALE

1. The authority citation for part 3500 continues to read as follows:

Authority: 5 U.S.C. 552; 30 U.S.C. 189 and 192c; 43 U.S.C. 1733 and 1740; and sec. 402, Reorganization Plan No. 3 of 1946 (5 U.S.C. app.).

2. Correct paragraph (b) of § 3504.15 to read as follows:

§ 3504.15 How does BLM determine my rent?

* * * * *

(b) Annual rental rates for leases for each commodity are shown in the table below. The rate shown is for each acre or fraction of an acre in the lease.

| Year 1 | Year 2 | Year 3 | Year 4 | Year 5 | Year 6 to end
(1) Phosphate | $0.25 | $0.50 | $0.50 | $1.00 | $1.00 | $1.00
(2) Sodium | 0.25 | 0.50 | 0.50 | 0.50 | 0.50 | 1.00
(3) Potassium | 0.25 | 0.50 | 0.50 | 0.50 | 0.50 | 1.00
(4) Sulphur | 0.50 | 0.50 | 0.50 | 0.50 | 0.50 | 0.50
(5) Gilsonite | 0.50 | 0.50 | 0.50 | 0.50 | 0.50 | 0.50
(6) Hardrock | 1.00 | 1.00 | 1.00 | 1.00 | 1.00 | 1.00
(7) Asphalt | 0.25 | 0.50 | 0.50 | 0.50 | 0.50 | 1.00

3. Correct § 3506.14(a) to read as follows:

§ 3506.14 May others participate in the exploration program?

(a) If any person wants to participate in the exploration program, you and BLM must receive written notice from that person within 30 days after the later of the final newspaper publication or the end of the BLM 30-day posting period.

* * * * *

4. Correct § 3507.16 to read as follows:

§ 3507.16 Is there a fee or payment required with my application?

Yes. You must submit the first year's rent with your application. Determine the first year's rent from the provisions in § 3504.15 of this part. There is no filing fee.

5. Correct the first sentence of § 3508.21 to read as follows:

§ 3508.21 What happens if I am the successful bidder?

(a) If you are the highest qualified bidder and we determine that your bid meets or exceeds fair market value, we will send you copies of the lease on the form attached to the detailed statement. * * *

* * * * *

[FR Doc. 00-5052 Filed 3-2-00; 8:45 am]

BILLING CODE 4310-84-P